DEPARTMENT OF DEFENSE

Department of the Army, Corps of Engineers

Intent To Prepare a Draft Environmental Impact Statement for Tillamook Bay and Estuary Flood Damage Reduction and Ecosystem Restoration, Tillamook County, Oregon

AGENCY: U.S. Army Corps of Engineers, DoD.

ACTION: Notice of intent.

SUMMARY: The purpose of this action is to determine the feasibility of implementing flood control measures and ecosystem restoration actions within the Tillamook Bay watershed. A reconnaissance study for the Tillamook Bay & Estuary watershed was initiated in March 1998 to determine if there was a Federal interest in conducting a detailed feasibility study for flood damage reduction, ecosystem restoration and other related purposes. The reconnaissance report, approved by Corps of Engineers headquarters on 21 December 1998, found that various measures could be implemented to benefit the environment. These include improving habitat for coastal coho salmon, a species listed as threatened under the Endangered Species Act. These measures could also improve water quality and reduce sedimentation entering the bay. In addition, flood damage reduction would most likely be provided by these and other measures. An extensive analysis of the estuary and watershed was conducted under the Tillamook Bay National Estuary Project that resulted in identification of four primary goals that are consistent with the Corps' study authority. These goals include restoration of critical habitat for salmon species, reduction of sedimentation of spawning and rearing habitat, reduction of bacterial contamination of shellfish, and reduction of magnitude, frequency and impact of flood events.

FOR FURTHER INFORMATION CONTACT: Questions about the DEIS can be directed to U.S. Army Corps of Engineers, Portland District, Environmental Resources Branch, P.O. Box 2946, Portland, Oregon 97208-2946, Attention: Steven J. Stevens, phone: (503) 808-4768.

SUPPLEMENTARY INFORMATION: Tillamook Bay is an 8,400 acre estuary which is formed by the convergence of five rivers flowing from the crest of the Coast Range. The bay averages only 6.6 feet in depth and is the terminus of a 570 square mile watershed.

The natural resources of the watershed, which initially attracted Euro-American settlers in the mid-1800's, continue to serve as the basis for the primary industries in the county—timber harvest, fishing, and dairy production.

Although the economy depends on the prime conditions for development and use of natural resources, the natural systems have been significantly impacted by human activities and events including four large forest fires in the 1930's-1950's, timber harvest, agriculture and urban development. These events and activities have led to increased erosion and sedimentation rates and landslide potential in the forest slopes as well as reduced wetland and riparian habitat. All five rivers entering Tillamook Bay exceed temperature and/or bacteria standards established by Oregon Department of Environmental Quality.

The lower Tillamook watershed is accustomed to frequent flood events that typically interrupt street traffic, farm operations and cause minor damage to homes, businesses and farms. The flood of 1996, however caused extensive damage throughout the watershed which precipitated a number of emergency actions as well as local requests for further study of the flood problems.

The fishing industry that once thrived in the Tillamook area is now in jeopardy. The watershed has historically supported large populations of anadromous fish species including coho, chum and chinook salmon, steelhead and cutthroat trout. During the past several decades, the number of returning adults have declined. Among the list of reasons attributed to the decline is the loss or reduction of habitat.

The objective of the feasibility study is to analyze flood damage reduction and ecosystem restoration problems and opportunities and identify actions that would address them from the Federal and non-Federal perspective. A full range of alternatives will be identified and evaluated with the anticipation that several alternatives can achieve both planning objectives.

EIS Scoping will be an integral part of the process of identifying alternatives and issues relevant to the planning study. Scoping will formally commence with a scoping letter expected to be issued early this summer. Federal, state and local agencies, Indian tribes, and interested organizations and individuals will be asked to comment on the scope of issues, alternatives and their potential impacts. Public meetings will be held in conjunction with each critical stage of the planning process, including opportunity to comment on the scope of the EIS. Further opportunity for public comment will occur during Draft and Final EIS review.

Gregory D. Showalter,
Army Federal Register Liaison Officer.

[FR Doc. 00-13344 Filed 5-26-00; 8:45 am]

BILLING CODE 3710-AR-U